Memorandum of April 2, 2020

Providing Federal Support for Governors' Use of the National Guard To Respond to COVID-19

Memorandum for the Secretary of Defense [and] the Secretary of Homeland Security

By the authority vested in me as President by the Constitution and the laws of the United States of America, including the Robert T. Stafford Disaster Relief and Emergency Assistance Act, 42 U.S.C. 5121-5207 (the “Stafford Act”), and section 502 of title 32, United States Code, it is hereby ordered as follows:

Section 1. Policy. It is the policy of the United States to take measures to assist State and territorial Governors under the Stafford Act in their responses to all threats and hazards to the American people in their respective States and territories. Considering the profound and unique public health risks posed by the ongoing outbreak of COVID-19, the disease caused by the novel (new) coronavirus known as SARS-CoV-2 (“the virus”), the need for close cooperation and mutual assistance between the Federal Government and the States is greater than at any time in recent history. In recognizing this serious public health risk, I noted that on March 11, 2020, the World Health Organization announced that the COVID-19 outbreak can be characterized as a pandemic. On March 13, 2020, I declared a national emergency recognizing the threat that SARS-CoV-2 poses to the Nation's healthcare systems. I also determined that same day that the COVID-19 outbreak constituted an emergency, of nationwide scope, pursuant to section 501(b) of the Stafford Act (42 U.S.C. 5191(b)). All States have activated their Emergency Operations Centers and are working to fight the spread of the virus and attend to those who have symptoms or who are already infected with COVID-19. To provide maximum support to the Governors of the States of Georgia, Hawaii, Indiana, Missouri, New Hampshire, New Mexico, Ohio, Rhode Island, Tennessee, and Texas and the territory of the U.S. Virgin Islands as they make decisions about the responses required to address local conditions in each of their respective jurisdictions and as they request Federal support under the Stafford Act, I am taking the actions set forth in sections 2 and 3 of this memorandum:

Sec. 2. One Hundred Percent Federal Cost Share. To maximize assistance to the Governors of the States of Georgia, Hawaii, Indiana, Missouri, New Hampshire, New Mexico, Ohio, Rhode Island, Tennessee, and Texas and the territory of the U.S. Virgin Islands to facilitate Federal support with respect to the use of National Guard units under State control, I am directing the Federal Emergency Management Agency (FEMA) of the Department of Homeland Security to fund 100 percent of the emergency assistance activities associated with preventing, mitigating, and responding to the threat to public health and safety posed by the virus that these States and this territory undertake using their National Guard forces, as authorized by sections 403 (42 U.S.C. 5170b) and 503 (42 U.S.C. 5193) of the Stafford Act.

Sec. 3. Support of Operations or Missions to Prevent and Respond to the Spread of COVID-19. I am directing the Secretary of Defense, to the maximum extent feasible and consistent with mission requirements (including geographic proximity), to request pursuant to 32 U.S.C. 502(f) that the Governors of the States of Georgia, Hawaii, Indiana, Missouri, New Hampshire, New Mexico, Ohio, Rhode Island, Tennessee, and Texas and the territory of the U.S. Virgin Islands order National Guard forces to perform duty to fulfill mission assignments, on a fully reimbursable basis, that FEMA issues to the Department of Defense for the purpose of supporting their respective State, territorial, and local emergency assistance efforts under the Stafford Act.

Sec. 4. Termination. The 100 percent Federal cost share provided for in this memorandum shall terminate 30 days from the date of this memorandum.

Sec. 5. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The secretary of Defense is authorized and directed to publish this memorandum in the Federal Register.

THE WHITE HOUSE,

Washington, April 2, 2020

[FR Doc. 2020-07453

Filed 4-6-20; 11:15 am]

Billing code 3295-F0-P